DEPARTMENT OF HEALTH AND HUMAN SERVICES

National Institutes of Health

National Eye Institute; Amended Notice of Meeting

Notice is hereby given of a change in the meeting of the National Eye Institute Special Emphasis Panel, January 22, 2018, 08:30 a.m. to January 22, 2018, 05:00 p.m., Hilton Garden Inn Bethesda, 7301 Waverly Street, Bethesda, MD 20814 which was published in the Federal Register on December 28, 2017, 82 FR 61577. This meeting is being amended to change the date from January 22, 2018 to February 23, 2018. The time has not changed. The meeting is closed to the public.

Dated: February 5, 2018.
Natasha M. Copeland,
Program Analyst, Office of Federal Advisory Committee Policy.

[FR Doc. 2018-02565 Filed 2-8-18; 8:45 am]

BILLING CODE 4140-01-P